DEPARTMENT OF THE INTERIOR

Office of the Secretary

Meeting of Advisory Committee to the Interagency Task Force to Improve Hydroelectric Licensing Processes

AGENCY: U.S. Department of the Interior—Office of the Secretary.

ACTION: Notice of meeting.

SUMMARY: In accordance with the Federal Advisory Committee Act, this notice advises interested persons that the Advisory Committee to the Interagency Task Force to Improve Hydroelectric Licensing Processes will meet on March 16, 2000 at the U.S. Department of Agriculture. The purpose of the meeting is to:

(1) Update Committee members on the current activities of the Interagency Task Force (ITF);

(2) Review and discuss the ITF Working Groups' draft products on: (i) State Mandates (i.e.; CWA Section 410 water quality certification and CZMA certification); and (ii) Economics.

DATE: March 16, 2000; 9:30 am-3 pm.

ADDRESS: United States Department of Agriculture, Whitten Building, Williamsburg Room, Suite 104A, 1400 Independence Ave. NW Washington, DC 20025.

You should inform Security at the building entrance on Jefferson Drive that you are attending a meeting hosted by NRE, (202) 720-7173. After calling NRE, Security will issue you a visitor's pass and direct you to the Williamsburg Room, Suite 104A.

FOR FURTHER INFORMATION CONTACT: George Schunk, Special Assistant to the Chief of the Forest Service, (202) 720-7173

SUPPLEMENTARY INFORMATION: The Secretary of the Interior and the Chairman, Federal Energy Regulatory Commission, with the concurrence of ITF members, established the Advisory Committee to provide a forum for non-Federal entities to review and provide comments on the deliberations of the ITF. Interested parties are invited to attend the meeting and will be given an opportunity to provide comments.

Alex Matthiessen,
Special Assistant to the Designated Federal Officer.

[FR Doc. 00-5254 Filed 3-2-00; 8:45 am]

BILLING CODE 4310-10-P